FEDERAL TRADE COMMISSION

Revised Jurisdictional Thresholds for Section 8 of the Clayton Act

AGENCY: Federal Trade Commission.

ACTION: Notice.

SUMMARY: The Federal Trade Commission announces the revised thresholds for interlocking directorates required by the 1990 amendment of Section 8 of the Clayton Act. Section 8 prohibits, with certain exceptions, one person from serving as a director or officer of two competing corporations if two thresholds are met. Competitor corporations are covered by Section 8 if each one has capital, surplus, and undivided profits aggregating more than $10,000,000, with the exception that no corporation is covered if the competitive sales of either corporation are less than $1,000,000. Section 8(a)(5) requires the Federal Trade Commission to revise those thresholds annually, based on the change in gross national product. The new thresholds, which take effect immediately, are $38,204,000 for Section 8(a)(1), and $3,820,400 for Section 8(a)(2)(A).

DATES: January 21, 2020.

FOR FURTHER INFORMATION CONTACT: James F. Mongoven (202-326-2879), Bureau of Competition, Office of Policy and Coordination.

(Authority: 15 U.S.C. 19(a)(5)).

April J. Tabor,
Acting Secretary.

[FR Doc. 2020-00784 Filed 1-17-20; 8:45 am]

BILLING CODE 6750-01-P